NUCLEAR REGULATORY COMMISSION

[Docket Nos. 50-237 and 50-249; NRC-2020-0277]

NextEra Energy Point Beach, LLC; Point Beach Nuclear Plant, Units 1 and 2; Notice of Intent To Prepare Supplement to the Supplemental Environmental Impact Statement

AGENCY: Nuclear Regulatory Commission.

ACTION: Notice.

SUMMARY: The U.S. Nuclear Regulatory Commission (NRC) staff will prepare a supplement to the 2021 draft Supplemental Environmental Impact Statement (SEIS) to evaluate the environmental impacts for the subsequent license renewal (SLR) of Renewed Facility Operating License Nos. DPR-24 and DPR-27 for Point Beach Nuclear Plant, Units 1 and 2 (Point Beach). The NRC staff will address new information following the issuance of the 2021 draft SEIS. The draft SEIS supplement will be issued for public comment.

DATES: October 2, 2024.

ADDRESSES: Please refer to Docket ID NRC-2020-0277 when contacting the NRC about the availability of information for this action. You may obtain publicly available information related to this action by any of the following methods:

• Federal Rulemaking Website: Go to https://www.regulations.gov and search for Docket ID NRC-2020-0277.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced in this document (if it is available in ADAMS) is provided the first time that it is referenced.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

• Public Library: A copy of the SLR application for Point Beach, including the applicant's environmental report, will be available for public review at the following public library location: Lester Public Library, 1001 Adams Street, Two Rivers, WI 54241.

FOR FURTHER INFORMATION CONTACT: Kevin Folk, telephone: 301-415-6944; email: Kevin.Folk@nrc.gov; or Karen Loomis, telephone: 301-415-5142; email: Karen.Loomis@nrc.gov. Both are staff in the Office of Nuclear Material Safety and Safeguards at the U.S. Nuclear Regulatory Commission, Washington, DC 20555-0001.

SUPPLEMENTARY INFORMATION:

I. Background

By letter dated November 16, 2020 (ADAMS Package Accession No. ML20329A292), NextEra submitted to the NRC an application for the SLR of Renewed Facility Operating License Nos. DPR-24 and DPR-27 for Point Beach Nuclear Plant, Units 1 and 2, respectively, for an additional 20 years of operation. This submission initiated the NRC's proposed action of determining whether to issue the subsequent renewed facility operating licenses. Point Beach is located in northeastern Manitowoc County, Wisconsin, approximately 29 miles southeast of Green Bay, Wisconsin.

The current facility operating license for Point Beach, Unit 1, expires at midnight on October 5, 2030, and the current facility operating license for Point Beach, Unit 2 expires at midnight on March 8, 2033.

The SLR application was submitted pursuant to part 54 of title 10 of the Code of Federal Regulations (10 CFR), “Requirements for Renewal of Operating Licenses for Nuclear Power Plants,” and included an environmental report. The applicant seeks to extend the facility operating license for Unit 1 to midnight on October 5, 2050, and for Unit 2 to midnight on March 8, 2053. A notice of acceptance for docketing of the application and of an opportunity to request a hearing was published in the Federal Register on January 22, 2021 (86 FR 6684). Thereafter, a notice of intent to prepare an environmental impact statement and conduct a scoping process was published in the Federal Register on February 1, 2021 (86 FR 7747) and is available on the Federal rulemaking website (https://www.regulations.gov) by searching for Docket ID NRC-2020-0277.

On November 9, 2021, a notice was published in the Federal Register (86 FR 62220), stating that the NRC staff had issued its draft SEIS, documenting its preliminary analysis and recommendation on the proposed action (subsequent license renewal) for Point Beach. The draft SEIS is available in ADAMS under Package Accession No. ML21306A226.

II. Discussion

On August 6, 2024, the NRC published a final rule (89 FR 64166) revising its environmental protection regulations in 10 CFR part 51, “Environmental protection regulations for domestic licensing and related regulatory functions.” The final rule updates the potential environmental impacts associated with the renewal of an operating license for a nuclear power plant for up to an additional 20 years, for either an initial license renewal or a single SLR term. Revision 2 to NUREG-1437, “Generic Environmental Impact Statement for License Renewal of Nuclear Plants” (LR GEIS) (ADAMS Package Accession No. ML24087A133) provides the technical basis for the final rule. The revised LR GEIS supports the updated list of environmental issues and associated environmental impact findings contained in Table B-1 in Appendix B to Subpart A of the revised 10 CFR part 51 for both initial license renewal and a single term of SLR.

The final rule became effective 30 days after its publication in the Federal Register, and the NRC staff must consider the new and modified issues, as applicable, in its license renewal EISs after that date (i.e., on or after September 5, 2024). Accordingly, the NRC staff will prepare a supplement to the 2021 draft SEIS for the Point Beach SLR application in accordance with the NRC's regulations in 10 CFR 51.72, to address new information since the draft SEIS was published. This new information includes the new and modified environmental issues associated with the NRC's August 2024 publication of the final rule, “Renewing Nuclear Power Plant Operating Licenses—Environmental Review” (89 FR 64166) and revised LR GEIS (NUREG-1437, Revision 2).

Dated: September 27, 2024.
For the Nuclear Regulatory Commission.
Stephen Koenick,
Chief, Environmental Project Management Branch 1, Division of Rulemaking, Environment, and Financial Support, Office of Nuclear Material Safety, and Safeguards.

[FR Doc. 2024-22710 Filed 10-1-24; 8:45 am]

BILLING CODE 7590-01-P